DEPARTMENT OF HEALTH AND HUMAN SERVICES

42 CFR Part 5

Negotiated Rulemaking Committee on Designation of Medically Underserved Populations and Health Professional Shortage Areas; Notice of Meeting

Correction

Proposed Rule document 2011-9081 was inadvertently published in the Rules section of the issue of April 14, 2011, beginning on page 20867. It should have appeared in the Proposed Rules section.

[FR Doc. 2011-9600 Filed 4-19-11; 8:45 am]

BILLING CODE 1505-01-D